SECURITIES AND EXCHANGE COMMISSION

17 CFR Part 232

[Release Nos. 33-9006A; 34-59391A; 39-2462A; IC-28617A; File No. S7-12-08]

RIN 3235-AK13

Interactive Data for Mutual Fund Risk/Return Summary; Correction

AGENCY: Securities and Exchange Commission.

ACTION: Final rule; correction.

SUMMARY: The Securities and Exchange Commission is making technical corrections to rule amendments adopted in Release No. 33-9006 (February 11, 2009), which appeared in the Federal Register on February 19, 2009 (74 FR 7748). Specifically, the Commission is making certain corrections to conform to technical amendments adopted in Release No. 33-9002A (April 1, 2009), which appeared in the Federal Register on April 7, 2009 (74 FR 15666).

DATES: Effective Date: July 15, 2009.

FOR FURTHER INFORMATION CONTACT: Deborah D. Skeens, Senior Counsel, Office of Disclosure Regulation, at (202) 551-6784, Division of Investment Management, Securities and Exchange Commission, 100 F Street, NE., Washington, DC 20549-5720.

SUPPLEMENTARY INFORMATION: The Commission is making the following corrections to Release No. 33-9006 (February 11, 2009), which was published in FR Doc E9-3359 appearing on page 7748 in the Federal Register on February 19, 2009. We are correcting cross-references in preliminary note 1 and paragraph (a) of Rule 405 ¹ of Regulation S-T.²

¹ 17 CFR 232.405.

² 17 CFR 232.10 et seq.

§ 232.405 [Corrected]

1. Beginning on page 7775, second column and continuing on the third column, the last nineteen lines of Preliminary Note 1 to § 232.405 are corrected to read as follows:

“paragraph (101) of Part II—Information Not Required to be Delivered to Offerees or Purchasers of both Form F-9 (§ 239.39 of this chapter) and Form F-10 (§ 239.40 of this chapter), paragraph 101 of the Instructions as to Exhibits of Form 20-F (§ 249.220f of this chapter), paragraph B.(15) of the General Instructions to Form 40-F (§ 249.240f of this chapter), paragraph C.(6) of the General Instructions to Form 6-K (§ 249.306 of this chapter), and General Instruction C.3.(g) of Form N-1A (§§ 239.15A and 274.11A of this chapter) specify when electronic filers are required or permitted to submit or post an Interactive Data File (§ 232.11), as further described in the Note to § 232.405.”

2. On page 7775, third column, the introductory text of paragraph (a)(2) of § 232.405 is corrected to read as follows:

“(2) Be submitted only by an electronic filer either required or permitted to submit an Interactive Data File as specified by Item 601(b)(101) of Regulation S-K, paragraph (101) of Part II—Information Not Required to be Delivered to Offerees or Purchasers of either Form F-9 or Form F-10, paragraph 101 of the Instructions as to Exhibits of Form 20-F, paragraph B.(15) of the General Instructions to Form 40-F, paragraph C.(6) of the General Instructions to Form 6-K, or General Instruction C.3.(g) of Form N-1A, as applicable, as an exhibit to:”

3. On page 7775, in the third column, paragraph (a)(3) of § 232.405 is corrected to read as follows:

“(3) Be submitted in accordance with the EDGAR Filer Manual and, as applicable, either Item 601(b)(101) of Regulation S-K, paragraph (101) of Part II—Information Not Required to be Delivered to Offerees or Purchasers of either Form F-9 or Form F-10, paragraph 101 of the Instructions as to Exhibits of Form 20-F, paragraph B.(15) of the General Instructions to Form 40-F, paragraph C.(6) of the General Instructions to Form 6-K, or General Instruction C.3.(g) of Form N-1A; and”

4. Beginning on page 7775, third column and continuing on page 7776 in the first column, paragraph (a)(4) of § 232.405 is corrected to read as follows:

“(4) Be posted on the electronic filer's corporate Web site, if any, in accordance with, as applicable, either Item 601(b)(101) of Regulation S-K, paragraph (101) of Part II—Information Not Required to be Delivered to Offerees or Purchasers of either Form F-9 or Form F-10, paragraph 101 of the Instructions as to Exhibits of Form 20-F, paragraph B.(15) of the General Instructions to Form 40-F, paragraph C.(6) of the General Instructions to Form 6-K, or General Instruction C.3.(g) of Form N-1A.”

Dated: May 1, 2009.
Elizabeth M. Murphy,
Secretary.

[FR Doc. E9-10525 Filed 5-6-09; 8:45 am]

BILLING CODE P